DEPARTMENT OF AGRICULTURE

Food Safety and Inspection Service

[Docket No. FSIS-2012-0026]

Notice of Availability and Opportunity for Comments (Compliance Guideline for Controlling Salmonella in Market Hogs)

AGENCY: Food Safety and Inspection Service, USDA.

ACTION: Notice of availability and opportunity for comments.

SUMMARY: The Food Safety and Inspection Service (FSIS) is announcing the availability of a compliance guideline for official establishments to control and reduce the spread of Salmonella in hog slaughter facilities. The guidance provides information on best practices that may be applied at a hog slaughter facility to prevent, eliminate, or reduce levels of Salmonella on hogs at all stages of slaughter and dressing. This guideline will help hog slaughter establishments better comply with the relevant regulatory requirements. FSIS has posted this guideline on its Web page http://www.fsis.usda.gov/wps/portal/fsis/topics/regulatory-compliance/compliance-guides-index.

DATES: Written comments may be submitted until March 7, 2014.

ADDRESSES: FSIS invites interested persons to submit comments on this notice. Comments may be submitted by either of the following methods:

Federal eRulemaking Portal: This Web site provides the ability to type short comments directly into the comment field on this Web page or attach a file for lengthier comments. Go to http://www.regulations.gov. Follow the on-line instructions at that site for submitting comments.

Mail, including CD-ROMs, etc.: Send to Docket Room Manager, U.S. Department of Agriculture, Food Safety and Inspection Service, Patriots Plaza 3, 1400 Independence Avenue SW., Mailstop 3782, Room 8-163B, Washington, DC 20250-3700.

Hand- or courier-delivered submittals: Deliver to Patriots Plaza 3, 355 E Street SW., Room 8-163B, Washington, DC 20250-3700.

Instructions: All items submitted by mail or electronic mail must include the Agency name and docket number FSIS-2012-0026. Comments received in response to this docket will be made available for public inspection and posted without change, including any personal information, to http://www.regulations.gov.

Docket: For access to background documents or comments received, go to the FSIS Docket Room at Patriots Plaza 3, 355 E Street SW., Room 8-164, Washington, DC 20250-3700 between 8:00 a.m. and 4:30 p.m., Monday through Friday.

FOR FURTHER INFORMATION CONTACT: Liza Murray, DVM, Risk, Innovations, and Management Staff, U.S. Department of Agriculture, Food Safety and Inspection Service, 1400 Independence Avenue SW., Patriots Plaza 3, Mail Stop 3782, Room 8-126A, Washington, DC 20024; Phone: (301) 504-0845; Email: liza.murray@fsis.usda.gov.

SUPPLEMENTARY INFORMATION:

Background

FSIS is issuing a guidance document to provide information on best practices that may be used by hog slaughter facilities in controlling and reducing the spread of Salmonella on market hogs.

An establishment that slaughters and processes market hogs, under HACCP, is to operate in a manner that prevents or reduces contamination at every step in the process. The establishment is to use decontamination and antimicrobial intervention treatments as necessary to remove contamination that may result from slaughtering or dressing or otherwise occurs on carcasses. The best practices outlined in this guidance are recommendations for establishments to improve their slaughter management practices to reduce levels of Salmonella on carcasses. The establishment that improves contamination control at appropriate processing locations will likely produce raw pork products that have fewer pathogens, including Salmonella.

FSIS urges the regulated industry to review the guidance and the scientific studies referenced in it. FSIS recommends that hog establishments follow this guidance to control and reduce the incidence and spread of Salmonella. The resulting improvements will also help establishments to better comply with the relevant regulatory requirements (9 CFR parts 310.7, 310.10, 310.11, 310.12, 310.18, 310.25, 416 and 417).

This guidance also discusses the Nationwide Microbiological Baseline Data Collection Program: Market Hog Survey that was conducted from August 2010-August 2011. The data collected and discussed in the guidance will enable the Agency to work more effectively with industry to reduce the risk of foodborne pathogens in FSIS regulated products.

FSIS welcomes comment on this compliance guidance, which will be revised as needed.

USDA Nondiscrimination Statement

The U.S. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

Done at Washington, DC, on: December 23, 2013.
Alfred V. Almanza,
Administrator.

[FR Doc. 2013-31488 Filed 1-3-14; 8:45 am]

BILLING CODE 3410-DM-P